DEPARTMENT OF TRANSPORTATION

Federal Aviation Administration

[Docket: FAA-2022-0655]

Notice of Availability of the Finding of No Significant Impact and Record of Decision and Adoption of the United States Department of the Navy Environmental Assessment for the Establishment of Restricted Area R-2511 at Naval Air Weapons Station China Lake, CA

AGENCY: Federal Aviation Administration (FAA), Department of Transportation (DOT).

ACTION: Notice of Availability of the Finding of No Significant Impact (FONSI)/Record of Decision (ROD).

SUMMARY: The Federal Aviation Administration (FAA) announces its decision to adopt the Department of the Navy (DON) Final Environmental Assessment—Establishment of Restricted Area R-2511 at Naval Air Weapons Station China Lake, California. The Environmental Assessment (EA) underwent a 15 day public comment period from June 17, 2021 to July 2, 2021 and no comments were received. This notice announces that, based on its independent review and evaluation of the EA and supporting documents, the FAA is adopting the EA and issuing a FONSI/ROD for the establishment of the Restricted Area (RA) R-2511.

FOR FURTHER INFORMATION CONTACT: Ryan Weller, Operations Support Group, Western Service Center, 2200 216th Street, Des Moines, WA 98198; telephone (206) 231-2286.

SUPPLEMENTARY INFORMATION: The FAA's Proposed Action would be entirely airspace-based and would establish a Special Use Airspace (SUA), consisting of one RA. The new SUA would connect the existing RAs R-2505 and R-2524. The new RA would be titled R-2511 and would have the same dimensions as the existing Trona Controlled Firing Area (TCFA). The FAA's Proposed Action would not change or modify existing military flight activities or weapons testing occurring within the SUA. Aircraft activities would be consistent with those already occurring in the airspace.

The RA would help notify, advise, and alert other pilots to where military training activity could be occurring. The RA would be established when determined necessary to confine or segregate activities considered hazardous to non-participating aircraft, which is defined as any aircraft (military or civilian) that is not actively involved in the research, development, acquisition, test, and evaluation (RDAT&E) activities within the RA when activated. Itinerant (non-local) or other aircraft not familiar with DON RDAT&E activities would now be made aware of the military flight activity more formally, by the existence of the RA on the FAA Sectional Aeronautical Chart. The RA would be mapped on the FAA Los Angeles Sectional Chart and knowledge of its activation would prompt all pilots to take notice of existing military flight activity, resulting in better awareness and coordination. Non-participating aircraft would not be allowed in the RA when activated.

Implementation

After evaluating the aeronautical study and the EA, the FAA has issued a FONSI/ROD to establish R-2511. The RA would improve flight safety for all pilots (civilian, commercial and military) while improving the capability of the DON to conduct RDAT&E and training activities. The R-2511 would create a linkage between existing R-2505 and R-2524, covering an area of approximately 87 square miles. The designated altitudes are at 6,000 feet (ft) mean sea level (MSL) to, but not including, flight level (FL) 200 (20,000 ft MSL). The times of use are between 0700-1700 pacific time, Monday through Friday. Activation of the RA is by Notice to Air Missions (NOTAM) at least seven days in advance. Operations would be scheduled for two-hour blocks, with a maximum of two blocks authorized per day. Annual operations would be conducted within the R-2511 up to 36 days per year.

In accordance with Section 102 of the National Environmental Policy Act of 1969 (NEPA), the Council on Environmental Quality's (CEQ) regulations for implementing NEPA (40 CFR parts 1500-1508), and other applicable authorities (including FAA Order 1050.1F, Environmental Impacts: Policies and Procedures, paragraph 8-2, and FAA Order JO 7400.2M, Procedures for Handling Airspace Matters, paragraph 32-2-3), the FAA has conducted an independent review and evaluation of the DON's EA. As a cooperating agency with responsibility for approving SUA under 49 U.S.C. 40103(b)(3)(A), the FAA provided subject matter expertise and coordinated with the DON during the environmental review process.

The FONSI/ROD and EA are available on the FAA website at: https://www.faa.gov/air_traffic/environmental_issues/.

Issued in Des Moines, WA, on July 12, 2022.
Ryan Wade Weller,
Environmental Protection Specialist, Operation Support Group, Western Service Area.

[FR Doc. 2022-15210 Filed 7-15-22; 8:45 am]

BILLING CODE 4910-13-P